DEPARTMENT OF THE INTERIOR

Bureau of Reclamation

Agency Information Collection Activities; Proposed Revisions to a Currently Approved Information Collection Form; Request for Comments

AGENCY: Bureau of Reclamation, Interior.

ACTION: Notice of renewal of a currently approved information collection form (OMB No. 1006-0003).

SUMMARY: In accordance with the Paperwork Reduction Act of 1995 (44 U.S.C. 3501 et seq.), the Bureau of Reclamation (Reclamation) intends to submit a request for renewal of an existing approved information collection form, Right-of-Use Application (Form 7-2540), to the Office of Management and Budget (OMB). Before submitting this revised Right-of-Use Application form (application) to the Office of Management and Budget for review of the information collection requirements, Reclamation requests public comments on specific aspects of the application form.

DATES: All written comments must be received on or before September 26, 2005.

ADDRESSES: Written comments should be sent to the Bureau of Reclamation, Attention: D-5300, PO Box 25007, Denver, CO 80225-0007. Copies of the proposed application may be requested by writing to the above address or by contacting Marian L. Mather at (303) 445-2895.

FOR FURTHER INFORMATION CONTACT: Marian L. Mather: (303) 445-2895.

SUPPLEMENTARY INFORMATION: In addition to reformatting the form, it has been modified to (1) move the instructions to the last page to facilitate its electronic completion on the Internet, (2) clarify the questions being asked of the applicant, (3) clarify the scope of activities which may be permissible to include those involving Reclamation's facilities and water surfaces in addition to land-based activities, and (4) provide the applicant with a list that identifies common land, facility, or water surface use activities which may be requested by this form.

Title: Right-of-Use Application.

Abstract: Reclamation is responsible for approximately 8 million acres of land which directly support Reclamation's Federal water projects in the 17 western states. Individuals or entities wanting to use Reclamation's lands, facilities, and water surfaces must submit an application to gain permission for such uses. Examples of such uses are transmission line construction across Reclamation project lands, livestock grazing, and special events such as boating regattas. Reclamation will review applications and determine whether the granting of individual right-of-use is compatible with Reclamation's present or future uses of the lands, facilities, or water surfaces. If the application request is found to be compatible, the applicant will be advised of the estimated administrative costs and estimated time that will be required for processing the application. In addition to the administrative costs, the applicant will also be required to pay the value of the right-of-use based on an appraisal. If the application is for construction of a bridge, building, or other significant construction project, Reclamation may require that all plans and specifications be signed and sealed by a professional engineer licensed by the State in which the work is proposed. Construction for linear facilities, such as roads, pipelines, and transmission lines, require a centerline survey defining the limits of the requested right-of-use.

Frequency: Each time a right-of-use is requested.

Respondents: Individuals, corporations, companies, and State and local entities that want to use Reclamation lands, facilities, or water surfaces.

Estimated Annual Total Number of Respondents: 500.

Estimated Number of Responses per Respondent: 1.0.

Estimated Total Number of Annual Responses: 500.

Estimated Total Annual Burden on Respondents: 1,000 hours.

Estimated Completion Time Per Respondent: 2 hours.

Comments are invited on:

(a) Whether the proposed information collection is necessary for the proper performance of Reclamation's functions to manage and operate Federal water projects and their associated lands, facilities, and water surfaces, including whether the information will have practical use;

(b) The accuracy of the burden estimate for the proposed collection of information, including the validity of the methodology and assumptions used;

(c) Ways to enhance the quality, usefulness, and clarity of the information to be collected; and

(d) Ways to minimize the burden of the information collection on respondents, including the use of appropriate automated, electronic, mechanical, or other forms of information technology.

We will summarize all comments received regarding this notice. We will publish that summary in the Federal Register when the information collection request is submitted to OMB for review and approval.

The Department of the Interior's practice is to make comments, including names and home addresses of respondents, available for public review. Individual respondents may request that their home address be withheld from public disclosure, which will be honored to the extent allowable by law. There also may be circumstances in which a respondent's identity would be withheld from public disclosure, as allowable by law. If respondents wish their names and/or addresses to be withheld, they must state this prominently at the beginning of their comment(s). Submissions of comments from organizations or businesses, and from individuals identifying themselves as representatives or officials of organizations or businesses, will be made available for public disclosure in their entirety.

Dated: July 6, 2005.
Roseann Gonzales,
Director, Office of Program and Policy Services, Denver Office.

[FR Doc. 05-14676 Filed 7-25-05; 8:45 am]

BILLING CODE 4310-MN-P